DEPARTMENT OF ENERGY

Federal Energy Regulatory Commission

Combined Notice of Filings

Take notice that the Commission has received the following Natural Gas Pipeline Rate and Refund Report filings:

Filings Instituting Proceedings

Docket Number: PR18-43-000.

Applicants: NorthWestern Corporation.

Description: Tariff filing per 284.123(b),(e)/: Revised Rate Schedules for Transportation & Storage Service (D2016.9.68 Phase 2) to be effective 4/1/2018.

Filed Date: 4/27/18.

Accession Number: 201804275005.

Comments/Protests Due: 5 p.m. ET 5/27/18.

Docket Numbers: RP18-599-000.

Applicants: Trailblazer Pipeline Company LLC.

Description: Annual Incidental Purchases and Sales Report of Trailblazer Pipeline Company LLC.

Filed Date: 3/27/18.

Accession Number: 20180327-5203.

Comments Due: 5 p.m. ET 5/4/18.

Docket Numbers: RP18-743-000.

Applicants: Discovery Gas Transmission LLC.

Description: Imbalance Cash-out Report for 2017 Activity for Discovery Gas Transmission LLC.

Filed Date: 4/25/18.

Accession Number: 20180425-5261.

Comments Due: 5 p.m. ET 5/7/18.

Docket Numbers: RP18-464-001.

Applicants: Nautilus Pipeline Company, L.L.C.

Description: Compliance filing Nautilus LINK Integration Compliance Filing to be effective 5/1/2018.

Filed Date: 4/26/18.

Accession Number: 20180426-5169.

Comments Due: 5 p.m. ET 5/8/18.

Docket Numbers: RP18-744-000.

Applicants: Dominion Energy Transmission, Inc.

Description: § 4(d) Rate Filing: DETI—April 26, 2018 Negotiated Rate Agreements to be effective 5/1/2018.

Filed Date: 4/26/18.

Accession Number: 20180426-5158.

Comments Due: 5 p.m. ET 5/8/18.

Docket Numbers: RP18-745-000.

Applicants: Garden Banks Gas Pipeline, LLC.

Description: § 4(d) Rate Filing: PAL Service Modifications to be effective 6/1/2018.

Filed Date: 4/26/18.

Accession Number: 20180426-5177.

Comments Due: 5 p.m. ET 5/8/18.

Docket Numbers: RP18-746-000.

Applicants: El Paso Natural Gas Company, L.L.C.

Description: § 4(d) Rate Filing: Negotiated Rate Agreement Update (APS May 2018) to be effective 5/1/2018.

Filed Date: 4/26/18.

Accession Number: 20180426-5219.

Comments Due: 5 p.m. ET 5/8/18.

Docket Numbers: RP18-747-000.

Applicants: EQT Energy, LLC.

Description: Petition of EQT Energy, LLC For Temporary Waiver under RP18-747.

Filed Date: 4/26/18.

Accession Number: 20180426-5242.

Comments Due: 5 p.m. ET 5/8/18.

Docket Numbers: RP18-748-000.

Applicants: Bluewater Gas Storage, LLC.

Description: § 4(d) Rate Filing: Revisions to Pro Forma Service Agreements to be effective 4/30/2018.

Filed Date: 4/27/18.

Accession Number: 20180427-5245.

Comments Due: 5 p.m. ET 5/9/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 30, 2018.
Nathaniel J. Davis, Sr.,
Deputy Secretary.

[FR Doc. 2018-09504 Filed 5-3-18; 8:45 am]

BILLING CODE 6717-01-P